DEPARTMENT OF ENERGY

Federal Energy Regulatory Commission

Combined Notice of Filings #

Take notice that the Commission has received the following Natural Gas Pipeline Rate and Refund Report filings:

Docket Numbers: RP17-913-004.

Applicants: Natural Gas Pipeline Company of America.

Description: Compliance filing NGPL Fuel Transparency Report Informational Filing.

Filed Date: 6/30/20.

Accession Number: 20200630-5153.

Comments Due: 5 p.m. ET 7/13/20.

Docket Numbers: RP20-972-000.

Applicants: Texas Eastern Transmission, LP.

Description: § 4(d) Rate Filing: Negotiated Rates—Chevron 911109 Releases eff 07-01-20 to be effective 7/1/2020.

Filed Date: 6/30/20.

Accession Number: 20200630-5045.

Comments Due: 5 p.m. ET 7/13/20.

Docket Numbers: RP20-973-000.

Applicants: NEXUS Gas Transmission, LLC.

Description: § 4(d) Rate Filing: Negotiated Rates—Columbia Gas 860005 7-1-2020 releases to be effective 7/1/2020.

Filed Date: 6/30/20.

Accession Number: 20200630-5046.

Comments Due: 5 p.m. ET 7/13/20.

Docket Numbers: RP20-974-000.

Applicants: Algonquin Gas Transmission, LLC.

Description: § 4(d) Rate Filing: Negotiated Rates—Various Releases eff 7-1-20 to be effective 7/1/2020.

Filed Date: 6/30/20.

Accession Number: 20200630-5053.

Comments Due: 5 p.m. ET 7/13/20.

Docket Numbers: RP20-975-000.

Applicants: Northern Natural Gas Company.

Description: § 4(d) Rate Filing: 20200630 Negotiated Rate to be effective 7/1/2020.

Filed Date: 6/30/20.

Accession Number: 20200630-5061.

Comments Due: 5 p.m. ET 7/13/20.

Docket Numbers: RP20-976-000.

Applicants: Natural Gas Pipeline Company of America.

Description: § 4(d) Rate Filing: Negotiated Rate Agreement Filing—Devon Gas Services to be effective 7/1/2020.

Filed Date: 6/30/20.

Accession Number: 20200630-5095.

Comments Due: 5 p.m. ET 7/13/20.

Docket Numbers: RP20-977-000.

Applicants: Natural Gas Pipeline Company of America.

Description: § 4(d) Rate Filing: Amendment to a Negotiated Rate Agreement Filing-Lucid Energy to be effective 7/1/2020.

Filed Date: 6/30/20.

Accession Number: 20200630-5103.

Comments Due: 5 p.m. ET 7/13/20.

Docket Numbers: RP20-978-000.

Applicants: Cheyenne Connector, LLC.

Description: § 4(d) Rate Filing: CC 2020-06-30 Administrative Changes to be effective 8/1/2020.

Filed Date: 6/30/20.

Accession Number: 20200630-5109.

Comments Due: 5 p.m. ET 7/13/20.

Docket Numbers: RP20-979-000.

Applicants: Rockies Express Pipeline LLC.

Description: § 4(d) Rate Filing: REX 2020-06-30 Administrative Changes to be effective 8/1/2020.

Filed Date: 6/30/20.

Accession Number: 20200630-5112.

Comments Due: 5 p.m. ET 7/13/20.

Docket Numbers: RP20-980-000.

Applicants: East Tennessee Natural Gas, LLC.

Description: § 4(d) Rate Filing: ETNG Section 4 Rate Case to be effective 8/1/2020.

Filed Date: 6/30/20.

Accession Number: 20200630-5156.

Comments Due: 5 p.m. ET 7/13/20.

Docket Numbers: RP20-981-000.

Applicants: Natural Gas Pipeline Company of America.

Description: § 4(d) Rate Filing: Limited Section 4 to Adjust Fuel Gas and Lost and Unaccounted For Retention Fact to be effective 8/1/2020.

Filed Date: 6/30/20.

Accession Number: 20200630-5158.

Comments Due: 5 p.m. ET 7/13/20.

Docket Numbers: RP20-982-000.

Applicants: Gulf South Pipeline Company, LLC.

Description: § 4(d) Rate Filing: Cap Rel Neg Rate Agmts (Atlanta Gas 8438 releases eff 7-1-2020) to be effective 7/1/2020.

Filed Date: 6/30/20.

Accession Number: 20200630-5164.

Comments Due: 5 p.m. ET 7/13/20.

Docket Numbers: RP20-983-000.

Applicants: Gulf South Pipeline Company, LLC.

Description: § 4(d) Rate Filing: Remove Expired Agreements eff 7/1/2020 to be effective 7/1/2020.

Filed Date: 6/30/20.

Accession Number: 20200630-5162.

Comments Due: 5 p.m. ET 7/13/20.

Docket Numbers: RP20-984-000.

Applicants: Dominion Energy Transmission, Inc.

Description: § 4(d) Rate Filing: DETI—June 30, 2020 Negotiated Rate and Nonconforming Service Agreements to be effective 8/1/2020.

Filed Date: 6/30/20.

Accession Number: 20200630-5171.

Comments Due: 5 p.m. ET 7/13/20.

Docket Numbers: RP20-985-000.

Applicants: Columbia Gulf Transmission, LLC.

Description: Compliance filing Compliance to Settlement in RP20-177-000 Implement Rates to be effective 8/1/2020.

Filed Date: 6/30/20.

Accession Number: 20200630-5176.

Comments Due: 5 p.m. ET 7/13/20.

Docket Numbers: RP20-986-000.

Applicants: Transcontinental Gas Pipe Line Company, LLC.

Description: § 4(d) Rate Filing: Negotiated Rates—Cherokee AGL—Replacement Shippers—Jul 2020 to be effective 7/1/2020.

Filed Date: 6/30/20.

Accession Number: 20200630-5245.

Comments Due: 5 p.m. ET 7/13/20.

Docket Numbers: RP20-987-000.

Applicants: Northern Natural Gas Company.

Description: § 4(d) Rate Filing: 20200630 Non Conforming to be effective 7/30/2020.

Filed Date: 6/30/20.

Accession Number: 20200630-5290.

Comments Due: 5 p.m. ET 7/13/20.

Docket Numbers: RP20-988-000.

Applicants: Texas Eastern Transmission, LP.

Description: § 4(d) Rate Filing: TETLP EPC AUG 2020 FILING to be effective 8/1/2020.

Filed Date: 6/30/20.

Accession Number: 20200630-5293.

Comments Due: 5 p.m. ET 7/13/20.

Docket Numbers: RP20-989-000.

Applicants: Texas Eastern Transmission, LP.

Description: § 4(d) Rate Filing: Negotiated Rates—ConEd 910950 to ENGIE eff 07-01-20 to be effective 7/1/2020.

Filed Date: 6/30/20.

Accession Number: 20200630-5363.

Comments Due: 5 p.m. ET 7/13/20.

Docket Numbers: RP20-990-000.

Applicants: Rockies Express Pipeline LLC.

Description: § 4(d) Rate Filing: REX 2020-06-30 Non-Conforming Negotiated Rate Amendment to be effective 7/1/2020.

Filed Date: 6/30/20.

Accession Number: 20200630-5384.

Comments Due: 5 p.m. ET 7/13/20.

Docket Numbers: RP20-991-000.

Applicants: LA Storage, LLC.

Description: § 4(d) Rate Filing: Filing of Negotiated Rate, Conforming IW Agreements 7.1.20 to be effective 7/1/2020.

Filed Date: 6/30/20.

Accession Number: 20200630-5389.

Comments Due: 5 p.m. ET 7/13/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2020.
Nathaniel J. Davis, Sr.,
Deputy Secretary.

[FR Doc. 2020-14688 Filed 7-7-20; 8:45 am]

BILLING CODE 6717-01-P